Proclamation 7613 of October 18, 2002

National Forest Products Week, 2002

By the President of the United States of America

A Proclamation

America's forests are one of our greatest natural resources. They offer majestic beauty and fabulous recreational opportunities for all Americans to enjoy. They also are an important source of materials that help our Nation's economy to grow and flourish. By observing National Forest Products Week, we recognize the countless ways in which forests enrich our lives, and we renew our commitment to preserving these natural assets for future generations.

Forests strengthen our economy by supplying us with renewable, energy-efficient, and environmentally friendly resources that are the source of good jobs and valuable products. The wood we get from forests is a prime construction and manufacturing product that is used to build our homes and many other essential structures. Wood is also recyclable, biodegradable, and serves as a raw material for many items we use and enjoy every day, including paper, tissue, furniture, packaging materials, musical instruments, and postage stamps. The use of wood for biomass energy generation derived from thinning projects conserves fossil fuels and strengthens rural economies.

In addition, our Nation's forests protect watersheds, preserve water quality, help keep our air clean, and provide habitat for our wildlife.

To protect these vital natural resources, we must take affirmative steps towards managing our forests better, and we must work together to safeguard the health of our forests. My Administration has developed the Healthy Forests Initiative, which seeks to restore the health of our woodlands and prevent forest fires through a combination of thinning overgrowth and restoring fire-damaged areas. For the safety of our citizens, the good of our forests, and the prosperity of our economy, we must make forest health a national priority.

Recognizing the importance of our forests in ensuring our Nation's well-being, the Congress, by Public Law 86-753 (36 U.S.C. 123), as amended, has designated the week beginning on the third Sunday in October of each year as “National Forest Products Week” and has authorized and requested the President to issue a proclamation in observance of this week.

NOW, THEREFORE, I, GEORGE W. BUSH, President of the United States of America, do hereby proclaim October 20 through October 26, 2002, as National Forest Products Week. I call upon all Americans to observe this week with appropriate ceremonies and activities.

IN WITNESS WHEREOF, I have hereunto set my hand this eighteenth day of October, in the year of our Lord two thousand two, and of the Independence of the United States of America the two hundred and twenty-seventh.

B

[FR Doc. 02-27193

Filed 10-22-02; 9:07 am]

Billing code 3195-01-P